DEPARTMENT OF HOMELAND SECURITY

Transportation Security Administration

[Docket No. TSA-2007-28572]

Revision of Agency Information Collection Activity Under OMB Review: Secure Flight Program

AGENCY: Transportation Security Administration, DHS.

ACTION: 30-day notice.

SUMMARY: This notice announces that the Transportation Security Administration (TSA) has forwarded the Information Collection Request (ICR), Office of Management and Budget (OMB) control number 1652-0046, abstracted below to OMB for review and approval of a revision to the currently approved collection under the Paperwork Reduction Act (PRA). The ICR describes the nature of the information collection and its expected burden. TSA published a Federal Register notice, with a 60-day comment period soliciting comments, of the following collection of information on February 4, 2015, 80 FR 6097. The collection involves information that certain U.S. aircraft operators and foreign air carriers (collectively “covered aircraft operators”) submit to Secure Flight for the purposes of identifying and protecting against potential and actual threats to transportation security and identifying individuals who are a lower risk to transportation security and therefore may be eligible for expedited screening. TSA is revising this collection to include the addition of risk-based assessments generated by aircraft operators using data in their Computer Assisted Passenger Prescreening Systems (CAPPS), Frequent Flyer Code Words (FFCWs) generated by aircraft operators, and the collection of lists of low-risk individuals provided by non-federal entities who are eligible for expedited screening. The CAPPS assessments and FFCWs are used in risk-based analysis of Secure Flight and other prescreening data that produces a boarding pass printing result (BPPR) for each passenger.

DATES: Send your comments by January 19, 2016. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to:

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Secure Flight Program.

Type of Request: Revision of a currently approved collection.

OMB Control Number: 1652-0046.

Form(s): N/A.

Affected Public: Aircraft operators, airport operators.

Abstract: TSA collects information from covered aircraft operators, including foreign air carriers, in order to prescreen passengers under the Secure Flight Program. The information collected under the Secure Flight Program is used for watch list matching, for matching against lists of Known Travelers, and to assess passenger risk (e.g., to identify passengers who present lower risk and may be eligible for expedited screening). The collection covers:

(1) Secure Flight Passenger Data (SFPD) for passengers of covered domestic and international flights within, to, from, or over the continental United States, as well as flights between two foreign locations when operated by a covered U.S. aircraft operator;

(2) SFPD for passengers of charter operators and lessors of aircraft with a maximum takeoff weight of over 12,500 pounds;

(3) certain identifying information for non-traveling individuals that airport operators or airport operator points of contact seek to authorize to enter a sterile area at a U.S. airport, for example, to patronize a restaurant, to escort a minor or a passenger with disabilities, or for another approved purpose; and

(4) registration information critical to deployment of Secure Flight, such as contact information, data format, or the mechanism the covered aircraft operators use to transmit SFPD and other data.

TSA is revising this collection to add the following additional categories of information:

(5) Risk-based assessments generated by U.S. aircraft operators using their CAPPS are sent to Secure Flight for use in risk-based analysis of passenger information. The CAPPS assessments are generated after analysis of the underlying passenger and other prescreening data is obtained by the aircraft operator in the ordinary course of business when the passenger makes his or her reservation. The CAPPS assessment, in turn, is used in the risk-based analysis of SFPD and other prescreening data that produce a BPPR for each passenger. Secure Flight receives only the risk assessment generated from the applicable CAPPS data and not the underlying data. TSA obtains important security value from the risk assessment without receiving the underlying privacy and other information that are generated when individuals make their flight reservations. The CAPPS assessments are designed to enhance TSA's analysis of passenger security risk and enable TSA to make better passenger risk decisions. A likely outcome of the addition of CAPPS risk assessments to Secure Flight's risk-based analysis will be the identification of additional low-risk passengers who may be eligible for expedited security screening at airports with TSA Pre✓® lanes.

(6) FFCW generated by aircraft operators also are sent to Secure Flight regarding passengers who are frequent flyer program members. These data also are used in Secure Flight's risk-based analysis and may result in a passenger being eligible for expedited screening.

(7) Lists of low-risk individuals who are eligible for expedited screening provided by Federal and non-federal entities. In support of TSA Pre✓®, TSA implemented expedited screening of known or low-risk travelers. Federal and non-federal list entities provide TSA with a list of eligible low-risk individuals to be used as part of Secure Flight processes. Secure Flight identifies individuals who should receive low risk screening and transmits the appropriate boarding pass printing result to the aircraft operators.

Both the CAPPS risk assessments and the FFCWs are generated from existing data within aircraft operators' reservations or other systems. The systemic changes required to send these data to Secure Flight varies by aircraft operator.

Number of Respondents: 292.

Estimated Annual Burden Hours: An estimated 678,295 ¹ hours annually.

¹ After further evaluation, TSA has revised the estimated annual burden hours in the 60-day notice, published February 4, 2015, from 678,245 to 678,295.

Dated: December 9, 2015.
Christina A. Walsh,
TSA Paperwork Reduction Act Officer, Office of Information Technology.

[FR Doc. 2015-31911 Filed 12-17-15; 8:45 am]

BILLING CODE 9110-05-P